DEPARTMENT OF HEALTH AND HUMAN SERVICES

Food and Drug Administration

21 CFR Part 2

Use of Ozone-Depleting Substances; Epinephrine

CFR Correction

In Title 21 of the Code of Federal Regulations, parts 1 to 99, revised as of Apr. 1, 2009, on page 66, § 2.125(e)(2)(v) is reinstated as follows:

§ 2.125 Use of ozone-depleting substances in foods, drugs, devices, or cosmetics.

* * * * *

(e) * * *

(2) * * *

(v) Epinephrine.

* * * * *

[FR Doc. E9-19297 Filed 8-10-09; 8:45 am]

BILLING CODE 1505-01-D